DEPARTMENT OF TRANSPORTATION

National Highway Traffic Safety Administration

[Docket No. NHTSA-2020-0024]

Agency Information Collection Activities; Submission to the Office of Management and Budget for Review and Approval; National Survey of Drowsy Driving Knowledge, Attitudes and Behaviors

AGENCY: National Highway Traffic Safety Administration (NHTSA), Department of Transportation.

ACTION: Notice and request for comments on a new information collection.

SUMMARY: In compliance with the Paperwork Reduction Act of 1995 (PRA), this notice announces that the Information Collection Request (ICR) abstracted below will be submitted to the Office of Management and Budget (OMB) for review. The ICR describes the nature of the information collection and its expected burden. The ICR is for a new information collection for a one-time voluntary survey regarding knowledge, attitudes, and behaviors associated with drowsy driving. A Federal Register notice with a 60-day comment period soliciting public comments on the following information collection was published on July 14, 2020. NHTSA received two comments, which we address below.

DATES: Comments must be submitted on or before December 10, 2020.

ADDRESSES: Written comments and recommendations for the proposed information collection, including suggestions for reducing burden, should be submitted to the Office of Management and Budget at www.reginfo.gov/public/do/PRAMain. To find this particular information collection, select “Currently under Review—Open for Public Comment” or use the search function. Comments may also be sent by mail to the Office of Information and Regulatory Affairs, Office of Management and Budget, 725 17th Street NW, Washington, DC 20503, Attention: Desk Officer for Department of Transportation, National Highway Traffic Safety Administration, or by email at oira_submission@omb.eop.gov, or fax: 202-395-5806.

FOR FURTHER INFORMATION CONTACT: For additional information or access to background documents, contact Jordan A. Blenner, JD, Ph.D., Contracting Officer's Representative, Office of Behavioral Safety Research (NPD-320), National Highway Traffic Safety Administration, 1200 New Jersey Avenue SE, W46-470, Washington, DC 20590. Dr. Blenner's telephone number is 202-366-9982, and her email address is jordan.blenner@dot.gov.

SUPPLEMENTARY INFORMATION: Under the PRA (44 U.S.C. 3501 et seq.), before a Federal agency can collect certain information from the public, it must receive approval from the Office of Management and Budget (OMB). In compliance with these requirements, this notice announces that the following information collection request has been forwarded to OMB.

A Federal Register notice with a 60-day comment period soliciting public comments on the following information collection was published on July 14, 2020 (Federal Register/Vol. 85, No. 135/pp. 42486-42488). NHTSA received two comments. General Motors (GM) provided comments supportive of the proposed information collection. The American Alliance for Healthy Sleep (AAHS) also provided comments supportive of the proposed collection but expressed concerns about the collection methods.

We appreciate the comments from GM and the AAHS and thank them for thoughtfully considering the described program. The AAHS raised two areas of concern. The first is that the AAHS “suggests that participants be contacted, and the survey completed, by electronic means instead, if possible.” While we agree with the AAHS that electronic methods generally improve efficiency and cost-effectiveness, we chose to use an address-based sampling frame to select and contact respondents to increase representativeness of the national and State samples. Address-based samples are generally more representative of the population than email or other electronic-based samples because they allow people who do not have a way to be contacted electronically to be selected for the survey. Also, given a main purpose of the survey is to produce national and State estimates of knowledge, attitudes, and behaviors, the use of address-based sampling more readily allows for the calculation of sample weights to reflect the population since the United States Postal Service maintains a computerized list of all U.S. residential addresses from which the contractor will draw the sample. Regarding the responses, the proposed methodology is a web-based survey with a paper-based version as a back-up. The initial invitation letter and the two reminder postcards direct the respondent to the web version of the survey. The second and third invitation letters direct the respondent to the web but also provide a paper survey and Business Reply Envelope as a back-up for those without internet access. Like the sampling process, we do not want to exclude respondents who may not have easy access to the internet. The second area of concern was allowing the survey to be completed anonymously and to recognize that respondents “may under-report or may not be willing to disclose certain behaviors.” We agree, and the survey is anonymous in that we do not collect the names of the respondents. In addition, the invitation letters and survey instruments inform the respondents that their responses are anonymous.

Title: National Survey of Drowsy Driving Knowledge, Attitudes and Behaviors.

OMB Control Number: New.

Form No.: NHTSA Forms 1547, 1548, 1549, 1550, 1551, and 1552.

Type of Information Collection Request: Approval of a new information collection.

Type of Review Requested: Regular.

Requested Expiration Date of Approval: 3 years from date of approval.

Summary of the Collection of Information: Title 23, United States Code, Chapter 4, Section 403 gives the Secretary authorization to use funds appropriated to conduct research and development activities, including demonstration projects and the collection and analysis of highway and motor vehicle safety data and related information needed to carry out this section, with respect to all aspects of highway and traffic safety systems and conditions relating to vehicle, highway, driver, passenger, motorcyclist, bicyclist, and pedestrian characteristics; accident causation and investigations; and human behavioral factors and their effect on highway and traffic safety.

The National Highway Traffic Safety Administration (NHTSA) of the U.S. Department of Transportation is seeking approval to collect information from a random sample of adults (18 years or older) who have driven a motor vehicle in the past month for a one-time voluntary survey to report their knowledge, attitudes, and behaviors associated with drowsy driving. This collection has two parts. The first part is a pilot test for which NHTSA will contact 1,000 households for an expected number of 163 voluntary responses. The second part is the full survey for which NHTSA will contact 81,490 households to achieve a total target of at least 15,000 complete voluntary responses, consisting of 7,000 completed instruments from a nationally representative sample and 2,000 completed instruments from each of four samples representative of States that recently have had drowsy driving law or program activities (Arkansas, Iowa, Massachusetts, and New Jersey). The total estimated burden associated with this collection is 16,323 hours—up to 10,949 hours associated with survey invitations and reminders and up to 5,374 hours associated with completing the survey. NHTSA will summarize the results of the collection using aggregate statistics in a final report to be distributed to NHTSA program and regional offices, State Highway Safety Offices, and other traffic safety stakeholders. This collection will inform the development of countermeasures, particularly in the areas of communications and outreach, for reducing fatalities, injuries and crashes associated with drowsy driving.

Description of the Need for the Information and Proposed Use of the Information: NHTSA's Congressional mandate is to reduce deaths, injuries, and economic losses resulting from motor vehicle crashes on the Nation's highways. As part of this statutory mandate, NHTSA is authorized to conduct research as a foundation for the development of traffic safety programs. See 23 U.S.C. 403; 49 U.S.C. 30101(2); 49 U.S.C. 32501. NHTSA's Fatality Analysis Reporting System (FARS) database reports that 2% of traffic fatalities were drowsy driving related in 2018.¹ However, the involvement of drowsy driving in crashes is likely underreported due to difficulty in defining and reporting drowsy driving incidents.² Using a multiple imputation methodology, the study estimated 21% of fatal crashes involved drowsy driving.³ If this estimate is accurate, it suggests that more than 7,000 people die in drowsy driving related motor vehicle crashes across the United States each year. While there have been several studies of self-reported drowsy driving behavior, there is limited research about knowledge and attitudes that lead to drowsy driving. NHTSA last fielded a similar survey in 2002, and much has changed since then. The information will assist NHTSA in (a) planning drowsy driving prevention program activities; (b) supporting groups involved in improving public safety; and (c) identifying countermeasure strategies that are most acceptable and effective in reducing drowsy driving.

¹ National Center for Statistics and Analysis. (October 2019). 2018 Fatal Motor Vehicle Crashes: Overview, pg. 8. (Traffic Safety Facts, Research Note, Report No. DOT HS 812 826). Washington, DC: National Highway Traffic Safety Administration.

² National Center for Statistics and Analysis. (October 2017). Drowsy Driving 2015, pg. 2 (Crash•Stats, A Brief Statistical Summary. Report No. DOT HS 812 446). Washington, DC: National Highway Traffic Safety Administration (available at https://crashstats.nhtsa.dot.gov/Api/Public/ViewPublication/812446).

³ Tefft, Brian C. (2014) Prevalence of Motor Vehicle Crashes Involving Drowsy Drivers, United States, 2009-2013. Washington, DC: AAA Foundation for Traffic Safety.

Respondents: Random sample of adults (18 years or older) who have driven a motor vehicle in the past month.

Estimated Number of Respondents: 82,490 Invitations/16,122 Expected Responses. The pilot study will invite one voluntary participant from 1,000 households, and the full study (national and four State surveys) will invite one voluntary participant from 81,490 households. The expected number of survey responses is 16,122 (163 for the pilot and 15,959 for the full survey).

Estimated Time per Response: The time required to participate in this survey is approximately 25 minutes for the pilot study and 28 minutes for the full study. Households selected for the pilot survey will receive two invitation letters and a reminder postcard that would take an estimated five minutes to read (2 minutes for each letter, and 1 minute for the postcard). Households selected for the full survey will receive three invitation letters and two reminder postcards that would take an estimated eight minutes to read (2 minutes for each letter, and 1 minute for each postcard). The estimated time to complete the survey is 20 minutes.

Total Estimated Annual Burden Hours: 16,323 hours.

The total estimated burden hours associated with this collection is 16,323 hours. The total burden hours for the respondents are derived by estimating the number of minutes each respondent would spend on each form and multiplying by the number of respondents (i.e., Form 1547 invitation letter 1 for the pilot phase: 1,000 Respondents × 2 minutes ÷ 60 = 33.3 hours). This estimate includes 83 hours associated with pilot invitations and reminders (33.3 hours (Form 1547) + 16.7 hours (Form 1548) + 33.3 hours (Form 1549) = 83.3 or 83 hours), 10,866 hours associated with the full survey invitations and reminders (2,716.3 hours (Form 1547) + 1,358.2 hours (Form 1548) + 2,716.3 hours (Form 1549) + 1,358.2 hours (Form 1550) + 2,716.3 hours (Form 1551) = 10,865.3 or 10,866 hours), and up to 5,374 hours associated with completing the survey (54.3 hours (pilot) + 5,319.7 hours (full) = 5,374 hours). The details are presented in Table 1 below.

Table 1—Burden Hours by Form
Form | Description | Respondents | Est. minutes per respondent | Total burden hours per form per phase | Total burden hours per form
Form 1547 | Invitation Letter 1—Pilot Survey | 1,000 | 2 | 33.3 | 2,749.6
| Invitation Letter 1—Full Survey | 81,490 | 2 | 2,716.3
Form 1548 | Reminder Postcard 1—Pilot Survey | 1,000 | 1 | 16.7 | 1,374.9
| Reminder Postcard 1—Full Survey | 81,490 | 1 | 1,358.2
Form 1549 | Invitation Letter 2—Pilot Survey | 1,000 | 2 | 33.3 | 2,749.6
| Invitation Letter 2—Full Survey | 81,490 | 2 | 2,716.3
Form 1550 | Reminder Postcard 2—Full Survey | 81,490 | 1 | 1,358.2 | 1,358.2
Form 1551 | Invitation Letter 3—Full Survey | 81,490 | 2 | 2,716.3 | 2,716.3
Form 1552 | Pilot Survey | 163 | 20 | 54.3 | 5,374.0
| Full Survey | 15,959 | 20 | 5,319.7
Totals |  |  |  |  | 16,322.6 or 16,323

Total Estimated Burden Cost: NHTSA estimates that there are no costs to respondents beyond the time spent completing the survey.

Frequency of Collection: The information collection will be administered a single time.

Public Comments Invited: You are asked to comment on any aspects of this information collection, including (a) whether the proposed collection of information is necessary for the proper performance of the functions of the Department of Transportation, including whether the information will have practical utility; (b) the accuracy of the agency's estimate of the burden of the proposed information collection, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29.

Issued in Washington, DC.
Nanda Narayanan Srinivasan,
Associate Administrator, Research and Program Development.

[FR Doc. 2020-24868 Filed 11-9-20; 8:45 am]

BILLING CODE 4910-59-P